DEPARTMENT OF ENERGY

Federal Energy Regulatory Commission

[Project No. 6550-005]

JBS Rentals, LLC, 5J's LLC; Notice of Transfer of Exemption

1. On October 10, 2023, 5J's LLC filed a notification of the transfer for the 30-kilowatt Biber Spellenberg Hydroelectric Project No. 6550 from JBS Rentals, LLC to 5J's LLC. The exemption from licensing was originally issued on February 14, 1983.¹ The project is located on Bidden Creek, Trinity County, California. The transfer of an exemption does not require Commission approval.

¹ Frank M. Biber and Steven Spellenberg, 22 FERC ¶ 62,182 (1983). Subsequently, on August 15, 2017, the project was transferred to JBS Rentals, LLC.

2. 5J's LLC is now the exemptee of the Biber Spellenberg Hydroelectric Project No. 6550. All correspondence must be forwarded to Cynthia Anderson, Owner, and Manager, 5J's LLC, P.O. Box 127, Willow Creek, CA 95573, Phone: 916-220-6712, email: Dynaglide96@gmail.com.

Dated: December 6, 2023.
Kimberly D. Bose,
Secretary.

[FR Doc. 2023-27220 Filed 12-11-23; 8:45 am]

BILLING CODE 6717-01-P